OVERSEAS PRIVATE INVESTMENT CORPORATION

April 26, 2007 Board of Directors Meeting

Time and Date: Thursday, April 26, 2007, 10 a.m. (Open Portion) 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters to be Considered:

1. President's Report.

2. Tribute—Ambassador Josette Sheeran.

3. Tribute—Steven J. Law.

4. Approval of January 18, 2007 Minutes (Open Portion.

Further Matters to be Considered: (Closed to the Public 10:15 a.m.)

1. Report from Audit Committee.

2. Finance Project—Global.

3. Finance Project—Central America.

4. Finance Project—Israel.

5. Finance Project—Latin America and Pakistan.

6. Approval of January 18, 2007 Minutes (Closed Portion).

7. Pending Major Projects.

8. Reports.

Contact Person for Information: Information on the meeting may be obtained from Connie M. Downs at (202) 336-8438.

Dated: April 12, 2007.
Connie M. Downs,
Corporate Secretary, Overseas Private Investment Corporation.

[FR Doc. 07-1903 Filed 4-12-07; 3:15 pm]

BILLING CODE 3210-01-M